DEPARTMENT OF COMMERCE

National Oceanic and Atmospheric Administration

[I.D. 041003A]

Marine Fisheries Advisory Committee; Public Meetings

AGENCY: National Marine Fisheries Service (NMFS), National Oceanic and Atmospheric Administration (NOAA), Commerce.

ACTION: Notice of public meetings.

SUMMARY: Notice is hereby given of meetings of the Marine Fisheries Advisory Committee (MAFAC) from May 13 through 15, 2003.

DATES: The meetings are scheduled as follows:

May 13, 2003, 9 a.m. - 5:30 p.m.

May 14, 2003, 8:30 a.m. - 5:30 p.m.

May 15, 2003, 10 a.m. - 1 p.m.

ADDRESSES: The meetings will be held at Paradise Point Resort, 1404 Vacation Road, San Diego, CA. Requests for special accommodations may be directed to MAFAC, Office of Constituent Services, NMFS, 1315 East-West Highway, Silver Spring, MD 20910.

FOR FURTHER INFORMATION CONTACT: Laurel Bryant, Designated Federal Official; telephone: (301) 713-9501 ext. 171.

SUPPLEMENTARY INFORMATION: As required by section 10(a) (2) of the Federal Advisory Committee Act, 5 U.S.C. App. (1982), notice is hereby given of meetings of MAFAC. MAFAC was established by the Secretary of Commerce (Secretary) on February 17, 1972, to advise the Secretary on all living marine resource matters that are the responsibility of the Department of Commerce. This Committee ensures that the living marine resource policies and programs of the Nation are adequate to meet the needs of commercial and recreational fisheries, and of environmental, state, consumer, academic, tribal, and other national interests.

Matters to Be Considered

May 13, 20003

Overview and updates on the status of various management initiatives and issues including regulatory streamlining initiative, and results of the five year review of implementing the 1996 Sustainable Fisheries Act amendments to the Magnuson-Stevens Fisheries Conservation and Management Act, annual Status of Stocks report and national standard 1 guidelines.

May 14, 2003

Update on national bycatch strategy and discussion of various science and technology management issues and initiatives. MAFAC will then review a final draft of the MAFAC Ecosystem Task Force report for final submission to the National Marine Fisheries Service, and discuss the status of essential fish habitat in the fisheries management process.

May 15, 2003

Committee willmake final reports to NOAA Fisheries, discuss next meeting agenda, locations and dates for 2004, and adjourn.

Time will be set aside for public comment on agenda items.

Special Accommodations

These meetings are physically accessible to people with disabilities. Requests for sign language interpretation or other auxiliary aids should be directed to MAFAC (see ADDRESSES).

Dated: April 15, 2003.
John Oliver,
Deputy Assistant Administrator for Operations, National Marine Fisheries Service.

[FR Doc. 03-9787 Filed 4-18-03; 8:45 am]

BILLING CODE 3510-22-S